ENVIRONMENTAL PROTECTION AGENCY

[EPA R9-2021-02; FRL-10021-96-Region 9]

Notice of Proposed Administrative Settlement Agreement and Order on Consent With De Minimis Parties at the Omega Chemical Corporation Superfund Site in Los Angeles County, California

AGENCY: Environmental Protection Agency (EPA).

ACTION: Notice of proposed settlement; request for public comment.

SUMMARY: In accordance with the Comprehensive Environmental Response, Compensation and Liability Act of 1980, as amended (“CERCLA”), notice is hereby given that the Environmental Protection Agency (EPA), has entered into a proposed settlement, embodied in an Administrative Settlement Agreement and Order on Consent (“Settlement Agreement”), with twenty-six parties that sent between one and three tons of waste and one party that sent just over four tons of waste (the “Settling De Minimis Parties”) to a solvent and refrigerant recyling facility that operated between 1976 and 1991 in Whittier, California, called the Omega Chemical Corporation. Under the Settlement Agreement, the Settling De Minimis Parties agree to pay EPA $1,222,328.66 to resolve their liability for both past and future costs associated with the cleanup of the Omega Chemical Corporation Superfund Site (“Omega Site”) in Los Angeles County California.

DATES: Comments must be received on or before June 14, 2021.

ADDRESSES: Please contact Keith Olinger at olinger.keith@epa.gov or (415) 972-3125 to request a copy of the Settlement Agreement. Comments on the Settlement Agreement should be submitted in writing to Mr. Olinger at olinger.keith@epa.gov. Comments should reference the Omega Site and the EPA Docket Number for the Settlement Agreement, EPA R9-2021-02. If for any reason you are not able to submit a comment by email, please contact Mr. Olinger at (415) 972-3125 to make alternative arrangements for submitting your comment. EPA will post its response to comments at https://cumulis.epa.gov/supercpad/cursites/csitinfo.cfm?id=0903349, EPA's web page for the Omega Site.

FOR FURTHER INFORMATION CONTACT: Keith Olinger, Enforcement Officer (SFD-7-5), Superfund Division, U.S. EPA Region IX, 75 Hawthorne Street, San Francisco, CA 94105; email: olinger.keith@epa.gov; Phone (415) 972-3125.

SUPPLEMENTARY INFORMATION: Notice of this proposed Settlement Agreement is made in accordance with the Section 122(i) of CERCLA, 42 U.S.C. 9622(i). The Settlement Agreement is a de minimis settlement agreement pursuant to Section 122(g) of CERCLA, 42 U.S.C. 9622(g), whereby the Settling De Minimis Parties, which are identified below, collectively agree to pay EPA $1,222,328.66. The Settlement Agreement resolves the Settling De Minimis Parties' liability for both past and future response costs at the Omega Site and provides the Settling De Minimis Parties with a site-wide covenant not to sue pursuant to Section 122(g)(2) of CERCLA, 42 U.S.C. 9622(g)(2). Groundwater contamination extends approximately four-and-one-half miles south, southwest from the former Omega Chemical Corporation facility, where the Settling De Minimis Parties sent hazardous waste. Much of the plume of groundwater contamination at the Omega Site lies beneath a large commercial/industrial area where chemicals released at other facilities have commingled with the contamination originating at the former Omega Chemical facility. Pursuant to a Consent Decree entered on March 31, 2017, Docket No. 2:16-cv-02696 (Central District, California), between the United States and other potentially responsible parties (“PRPs”) at the Omega Site, EPA is obligated to share seventy percent of the money collected from certain Settling De Minimis Parties under this Settlement Agreement with certain PRPs that have incurred significant costs cleaning up contamination at the Omega Site and will continue to incur cleanup costs in the future. As of January 1, 2021, EPA had incurred more than $45 million in costs related to the Omega Site and EPA had recovered more than $35 million of its costs.

EPA will consider all comments received on the Settlement Agreement in accordance with the DATES and ADDRESSES sections of this Notice and may modify or withdraw its consent to the Settlement Agreement if comments received disclose facts or considerations that indicate that the settlement is inappropriate, improper, or inadequate.

Parties to the Proposed Settlement

Aaron Spelling Productions, Inc.; Air Distribution Technologies, Inc.; City of Montclair; Denso Products and Services Americas, Inc.; Eco-Air Products, Inc.; FAA Stevens Creek, Inc.; Fairway Chevrolet Co.; Grove Auto Body; Haddick's Towing, Inc.; Hawthorne Machinery Co.; Lacey Collision Center; Materion Precision Optics and Thin Film Coatings, Inc.; Meggitt Defense Systems, Inc., as successor to Southwest Aerospace Corp.; Metal Surfaces International, LLC; Microsemi Corp.; National Oilwell Varco, as successor to Varco International, Inc.; New Bedford Panoramex Corp.; Ontario Nissan; Orion TV Productions, Inc.; Pierce Pacific Manufacturing, Inc.; Puregro Company, successor to Brea Agricultural Service, Inc.; Roberts Consolidated Industries, Inc.; Rocliff Enterprises, Inc. d/b/a United Truck Dismantlers; Shoreham Towers Homeowners' Association; Tom Holmes, Inc.; Wells Fargo Bank, National Association; Western Allied Corporation.

Dated: May 7, 2021.
Enrique Manzanilla,
Director, Superfund Division, EPA Region 9.

[FR Doc. 2021-10141 Filed 5-12-21; 8:45 am]

BILLING CODE 6560-50-P